DEPARTMENT OF THE TREASURY

Community Development Financial Institutions Fund

Proposed Collection; Comment Request

ACTION: Notice and request for comments.

SUMMARY: The Community Development Financial Institutions Fund (the Fund), a government corporation within the Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Fund is soliciting comments concerning the Fund's conflict of interest reporting requirements for contract readers of applications submitted for funding under the Fund's various programs.

DATES: Written comments must be received on or before January 5, 2007 to be assured of consideration.

ADDRESSES: All comments must be submitted in writing and sent to Jeffrey C. Berg, Legal Counsel, as follows: (i) by mail to: Community Development Financial Institutions Fund, U.S. Department of the Treasury, 601 13th Street, NW., Suite 200 South, Washington, DC 20005; (ii) by e-mail to: conflictofinterestcomments@cdfi.treas.gov; or (iii) by fax to: 202/622-8244.

FOR FURTHER INFORMATION CONTACT: A copy of the conflict of interest information collection or requests for additional information may be obtained by contacting Ashanti McCallum, Paralegal Specialist, as follows: (i) By mail to: Community Development Financial Institutions Fund, U.S. Department of the Treasury, 601 13th Street, NW., Suite 200 South, Washington, DC 20005; (ii) by e-mail to: mccallluma@cdfi.treas.gov; or (iii) by fax to: 202/622-8244.

SUPPLEMENTARY INFORMATION:

Title: The Community Development Financial Institutions Fund—Conflict of Interest Package for Non-Federal Readers.

OMB Number: 1559-0011.

Abstract: Through its programs the Fund supports financial institutions around the country that are specifically dedicated to financing and supporting community and economic development activities. This strategy builds strong institutions that make loans and investments and provide financial services in markets (including economically distressed investments areas and targeted populations) whose needs for loans, investments, and financial services have not been fully met by traditional financial institutions, particularly in the areas of promoting homeownership, developing of affordable housing, and stimulating small business development, as well as providing financial services to those that have not previously accessed financial institutions.

Consistent with the Federal Acquisition Regulations provisions on conflicts of interest, the Fund has applied, and will continue to apply, a conflict of interest policy with respect to its contract (non-Federal employee) readers that avoids a reader's participation in the evaluation or process of selection of applications where such participation creates a conflict of interest or an appearance of a conflict of interest. The conflict of interest review materials are used by the Fund to determine whether or not a contractor's financial interest, or that of the contractor's spouse, parent, dependent child, or member of household, may result in a conflict, or apparent conflict of interest with the individual's duties and responsibilities as a contractor evaluating applications. The completion of the package is mandatory for all contractors prior to their selection as readers.

Current Action: Extension.

Type of Review: Renewal.

Affected Public: Individuals.

Estimated Number of Respondents: 150.

Estimated Annual Time per Respondent: 45 minutes (0.75 hours).

Estimated Total Annual Burden Hours: 112.5 hours.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 12 U.S.C. 4703(c) and 48 CFR subpart 9.5.

Dated: October 31, 2006.
Arthur A. Garcia,
Director, Community Development Financial Institutions Fund.

[FR Doc. E6-18650 Filed 11-3-06; 8:45 am]

BILLING CODE 4810-70-P